DEPARTMENT OF JUSTICE

Notice of Lodging of Stipulation and Order Pursuant to the Clean Air Act

In accordance with Departmental policy, 28 CFR § 50.7, notice is hereby given that a Stipulation and Order in United States v. Paul Revere Transportation, LLC, Civil No. 06-cv-12297-GAO was lodged on August 4, 2009, with the United States District Court for the District of Massachusetts.

The Stipulation and Order resolves claims for civil penalties and injunctive relief against Paul Revere Transportation, LLC under the Clean Air Act and regulations promulgated thereunder. The complaint sought injunctive relief and civil penalties against Paul Revere Transportation, LLC pursuant to section 113 of the Clean Air Act, 42 U.S.C. 7413, for violations of the federally enforceable Massachusetts idling regulation, found at 310 CMR 7.11(b). The violations occurred at the Paul Revere facility located in Roxbury, Massachusetts. A jury trial was held on this matter June 1, 2009, through June 8, 2009, and the jury returned a verdict in favor of the United States, finding 234 separate violations of the Clean Air Act and 310 CMR 7.11(b).

Pursuant to the Stipulation and Order, Paul Revere Transportation, LLC will pay a civil penalty of $650,000 to resolve these violations.

The Department of Justice will receive, for a period of thirty (30) days from the date of this publication, comments relating to the Stipulation and Order. Comments should be addressed to the Assistant Attorney General, Environment and Natural Resources Division, and either e-mailed to pubcomment-ees.enrd@usdoj.gov or mailed to P.O. Box 7611, U.S. Department of Justice, Washington, DC 20044-7611, and should refer to United States v. Paul Revere Transportation, LLC; Civil Action No. 06-CA-12297-GAO, D.J. Ref. No. 90-5-2-1-08849.

The proposed Stipulation and Order may be examined at the Office of the United States Attorney, District of Massachusetts, 1 Courthouse Way, Suite 9200, Boston, Massachusetts 02210, and at the United States Environmental Protection Agency, New England Region I, One Congress Street, Suite 1100, Boston, Massachusetts 02114-2023. During the public comment period, the proposed Stipulation and Order may also be examined on the following Department of Justice Web site, http://www.usdoj.gov/enrd/Consent_Decrees.html. A copy of the proposed Stipulation and Order may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page reproduction cost) payable to the U.S. Treasury or, if by e-mail or fax, forward a check in that amount to the Consent Decree Library at the stated address.

Maureen Katz,
Assistant Chief, Environmental Enforcement Section, Environment and Natural Resources Division.

[FR Doc. E9-19019 Filed 8-7-09; 8:45 am]

BILLING CODE 4410-15-P